DEPARTMENT OF HOMELAND SECURITY

Coast Guard

33 CFR Part 165

[Docket No. USCG-2010-0063]

Safety Zones; Annual Firework Displays Within the Captain of the Port, Puget Sound Zone

AGENCY: Coast Guard, DHS.

ACTION: Notice of enforcement of regulation.

SUMMARY: The Coast Guard will enforce the safety zones for annual firework displays in the Captain of the Port, Puget Sound Zone during the dates and times noted below. This action is necessary to prevent injury and to protect life and property of the maritime public from the hazards associated with the firework displays. During the enforcement periods, entry into, transit through, mooring, or anchoring within these safety zones is prohibited unless authorized by the Captain of the Port, Puget Sound or their Designated Representative.

DATES: The regulations in 33 CFR 165.1332 will be enforced between July 4 and July 12, 2015.

FOR FURTHER INFORMATION CONTACT: If you have questions on this document, call or email MST1 Kenneth Hoppe, Sector Puget Sound Waterways Management, Coast Guard; telephone 206-217-6051, SectorPugetSoundWWM@uscg.mil.

SUPPLEMENTARY INFORMATION: The Coast Guard will enforce the safety zones established for Annual Fireworks Displays within the Captain of the Port, Puget Sound Area of Responsibility in 33 CFR 165.1332 during the dates and times noted below.

The following safety zones will be enforced from 5:00 p.m. on July 4, 2015 through 1:00 a.m. on July 5, 2015.

Event name | Location | Latitude | Longitude | Radius (yards)
Tacoma Freedom Fair | Commencement Bay | 47°17.103′ N | 122°28.410′ W | 300
City of Renton Fireworks | Renton, Lake Washington | 47°30.386′ N | 122°12.502′ W | 100
Des Moines Fireworks | Des Moines | 47°24.117′ N | 122°20.033′ W | 200
Three Tree Point Community Fireworks | Three Tree Point | 47°27.033′ N | 122°23.15′ W | 200
Roche Harbor Fireworks | Roche Harbor | 48°36.7′ N | 123°09.5′ W | 200
Deer Harbor Annual Fireworks Display | Deer Harbor | 48°37.0′ N | 123°00.25′ W | 150
Blast Over Bellingham | Bellingham Bay | 48°44.933′ N | 122°29.667′ W | 300

The following safety zone will be enforced from 5:00 p.m. on July 11, 2015 through 1:00 a.m. on July 12, 2015:

Event name | Location | Latitude | Longitude | Radius (yards)
Mercer Island Celebration | Mercer Island | 47°35.517′ N | 122°13.233′ W | 250

The special requirements listed in 33 CFR 165.1332, which published in the Federal Register on June 15, 2010 (75 FR 33700), apply to the activation and enforcement of these safety zones. All vessel operators who desire to enter the safety zone must obtain permission from the Captain of the Port or their Designated Representative by contacting the Coast Guard Sector Puget Sound Joint Harbor Operations Center (JHOC) on VHF Ch 13 or Ch 16 or via telephone at (206) 217-6002.

The Coast Guard may be assisted by other Federal, State, or local law enforcement agencies in enforcing this regulation.

This document is issued under authority of 33 CFR 165.1332 and 33 CFR part 165 and 5 U.S.C. 552(a). In addition to this document, the Coast Guard will provide the maritime community with extensive advanced notification of the safety zones via the Local Notice to Mariners and marine information broadcasts on the day of the events.

Dated: May 1, 2015.
M.W. Raymond,
Captain, U.S. Coast Guard, Captain of the Port, Puget Sound.

[FR Doc. 2015-11937 Filed 5-15-15; 8:45 am]

BILLING CODE 9110-04-P